DEPARTMENT OF THE TREASURY

Community Development Financial Institutions Fund

Notice of Proposed Information Collection for Public Comment: Community Development Financial Institutions Fund, Bank Enterprise Award Program, 2003-2004 Application

AGENCY: Community Development Financial Institutions Fund, Department of the Treasury.

ACTION: Notice and request for comments.

SUMMARY: The proposed information collection requirement, concerning the Community Development Financial Institutions Fund (the Fund) Bank Enterprise Award (BEA) Program 2003-2004 Application, pursuant to which insured depository institutions (as defined by 12 U.S.C. 1813(c)(2)) may apply to the Fund for awards for performing certain qualified activities (as defined by 12 CFR 1806.103(mm)), will be submitted to the Office of Management and Budget (OMB) for review as required by the Paperwork Reduction Act. The Fund is soliciting public comments on the subject proposal.

DATES: Written and electronic comments on the subject proposal must be submitted to the Fund by May 13, 2003.

ADDRESSES: Interested persons are invited to submit comments regarding the subject proposal. Comments should refer to the proposal by name and should be sent by mail to: Margaret Nilson, Depository Institutions Manager, CDFI Fund, 601 Thirteenth Street, NW., Suite 200, Washington DC 20005; by e-mail to cdfihelp@cdfi.treas.gov; or by facsimile at (202) 622-8244. This is not a toll free number.

FOR FURTHER INFORMATION CONTACT: Margaret Nilson, Depository Institutions Manager, CDFI Fund, 601 Thirteenth Street, NW., Suite 200, Washington DC 20005; telephone number: (202) 622-8917. This is not a toll free number. Copies of the proposed application form and other available information may be obtained from Ms. Nilson, or on the BEA page of the Fund's Web site, at: http://www.cdfifund.gov.

SUPPLEMENTARY INFORMATION: The Fund will submit the proposed information collection to OMB for review, as required by the Paperwork Reduction Act of 1995 (44 U.S.C. Chapter 35, as amended). This notice is soliciting comments from members of the public and affected organizations concerning the proposed collection of information to: (1) Evaluate whether the proposed collection of information is necessary to insure proper performance of the functions of the Fund, including whether the information will have practical utility; (2) evaluate the accuracy of the Fund's estimate of the burden of the proposed collection of information; (3) enhance the quality, utility and clarity of the information to be collected; and (4) minimize the burden of the collection of information on those who are to respond, including through use of appropriate automated collection techniques or other forms of information technology, e.g., permitting electronic submission of responses. Please note: The fund may not consider public comments in the event that OMB determines that modifications to the proposed information collection are not substantive and thus do not require that the Fund obtain public comments prior to issuing the 2003-2004 BEA Application.

This Notice also lists the following information:

Title of Proposal: Community Development Financial Institutions Fund Bank Enterprise Award Program 2003-2004 Application.

Description of the need for information and proposed use: The Fund, a wholly owned government corporation within the Department of the Treasury, is administering the FY 2003 and FY 2004 funding rounds of its BEA Program, pursuant to that certain Notice of Funds Availability (NOFA), published in the Federal Register, on February 4, 2003, at 68 FR 5727 (2003). As provided in the NOFA, the Fund will make awards to insured depository institutions, based upon such institutions' completion of certain qualified activities, as reported in the application. The application will solicit information concerning: applicants' eligibility to participate in the BEA Program; the character and quantity (value) of applicants' activities, and the extent to which such activities may be qualified activities; and appropriate supporting documentation. The questions that the application contains, and the information generated thereby, will enable the Fund to evaluate applicants' activities and determine the extent of applicants' eligibility for a BEA Program award.

Members of the affected public: Every insured depository institution that applies to the Fund for an award under the BEA Program will be required to submit an application. One hundred fifty-nine (159) such insured depository institutions applied to participate in the FY 2002 funding round.

Estimation of the total number of hours needed to prepare the information collection including number of respondents, frequency of response, and hours of response: The Fund estimates that completing each application will take 15 hours, for a total maximum burden hour estimate of 2,385 hours (based upon the number of applicants to the BEA Program in the FY 2002 funding round) .

Total Estimated Annual Burden Hours: 2,385 hours.

Status of the proposed information collection: Pending OMB approval.

Authority: The Paperwork Reduction Act of 1995, 44 U.S.C. Chapter 35, as amended; 12 U.S.C. 1834a; 12 U.S.C. 4713.

Dated: March 10, 2003.
Tony T. Brown,
Director, Community Development Financial Institutions Fund.

[FR Doc. 03-6147 Filed 3-13-03; 8:45 am]

BILLING CODE 4810-70-P